DEPARTMENT OF ENERGY

Federal Energy Regulatory Commission

[Docket No. CP19-78-000]

PennEast Pipeline Company, LLC; Notice of Schedule for Environmental Review of The Penneast Pipeline Project Amendment

On February 1, 2019, PennEast Pipeline Company, LLC (PennEast) filed an application under section 7(c) of the Natural Gas Act to amend the certificate of public convenience and necessity and related authorizations issued by the Commission on January 19, 2018 in Docket No. CP15-558-000 (January 19th Order). In this application for amendment, PennEast has proposed four modifications that are outside the certificated route. The modifications were designed to optimize the design of the PennEast Pipeline Project and respond to agency requests.

On February 15, 2019, the Federal Energy Regulatory Commission (FERC or Commission) issued its Notice of Application for the PennEast Pipeline Project Amendment (Project Amendment). This current notice alerts agencies issuing federal authorization of the requirement to complete all necessary reviews and to reach a final decision on a request for a federal authorization within 90 days of the date of issuance of the Commission's staff's Environmental Assessment (EA) for the Project Amendment. This instant notice identifies the FERC staff's planned schedule for completion of an EA for the Project Amendment.

Schedule for Environmental Review

Issuance of EA—(September 20, 2019)

90-day Federal Authorization Decision Deadline—(December 19, 2019)

If a schedule change becomes necessary for the EA, an additional notice will be provided so that the relevant agencies are kept informed of the Project Amendment's progress.

Project Amendment Description

The proposed four modifications in Pennsylvania include: Saylor Avenue Realignment in Luzerne County; Interstate 81 Workspace Adjustment in Luzerne County; Appalachian Trail PPL Electric Utilities Crossing Realignment in Carbon, Monroe, and Northampton Counties; and Freemansburg Avenue Realignment in Northampton County. PennEast's proposed realignment of the project route crossing of the Appalachian National Scenic Trail would collocate the pipeline with an existing easement. Except for the realignment of the Appalachian National Scenic Trail crossing, all other realignments and adjustment are within 0.25 mile of the existing Project route approved in the January 19th Order.

Background

On March 15, 2019, the Commission issued a Notice of Intent to Prepare an Environmental Assessment for the Proposed Penneast Pipeline Project Amendment, and Request for Comments on Environmental Issues (NOI).

The NOI was sent to federal, state, and local government agencies; elected officials; affected landowners; environmental and public interest groups; Native American tribes and regional organizations; commentors and other interested parties; and local libraries and newspapers. Major issues raised during scoping that are specific to the Project Amendment include project need, impacts on the Appalachian National Scenic Trail, and private property rights. All substantive comments will be addressed in the EA. The U.S. Army Corps of Engineers; the U.S. Fish and Wildlife Service, Pennsylvania Field Office; U.S. Environmental Protection Agency; and U.S. Department of Agriculture, Natural Resources Conservation Service are cooperating agencies in the preparation of the EA.

Additional Information

In order to receive notification of the issuance of the EA and to keep track of all formal issuances and submittals in specific docket, the Commission offers a free service called eSubscription. This can reduce the amount of time you spend researching proceedings by automatically providing you with notification of these filings, document summaries, and direct links to the documents. Go to www.ferc.gov/docs-filing/esubscription.asp.

Additional information about the Project Amendment is available from the Commission's Office of External Affairs at (866) 208-FERC or on the FERC website (www.ferc.gov). Using the “eLibrary” link, select “General Search” from the eLibrary menu, enter the selected date range and “Docket Number” excluding the last three digits (i.e., CP19-78), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: April 16, 2019.
Kimberly D. Bose,
Secretary.

[FR Doc. 2019-08015 Filed 4-19-19; 8:45 am]

BILLING CODE 6717-01-P